DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number on the “Nature of Application” portion of the table below as follows: 1—Motor vehicle, 2—Rail freight, 3—Cargo vessel, 4—Cargo aircraft only, 5—Passenger-carrying aircraft.

DATES: Comments must be received on or before May 30, 2001.

Address Comments to: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on April 24, 2001.
J. Suzanne Hedgepeth,
Director, Office of Hazardous Materials Exemptions and Approval.

New Exemptions
Application No. | Docket No. | Applicant | Regulation(s) affected | Nature of exemption thereof
12668-N | RSPA-01-9385 | Tri-Wall, Butler, IN | 49 CFR 173.12(b)(2)(i) | To authorize the manufacture, mark, sale and use of certain UN 11G flexible intermediate bulk container for use as the outer packaging for lab pack applications in accordance with 49 CFR 173.12(b)(2)(i) as well as 49 CFR 173.240-243. (Mode 1)
12669-N | RSPA-01-9386 | Aristech Chemical Corporation, Pittsburgh, PA | 49 CFR 177.834(i)(4) | To authorize an alternative attendance requirement of cargo tanks during loading and unloading of Class 9 material. (Mode 1)
12670-N | RSPA-01-9387 | Taylor-Wharton, Theodore, AL | 49 CFR 178.57(l)(1)(2)(3), 178.57, (f) | To manufacture, mark, sale and use DOT-4L specification cylinders using an alternative lot size at the time of manufacturing. (Mode 1)
12671-N | RSPA-01-9370 | Carleton Technologies Inc., Orchard Park, NY | 49 CFR 173.302(a)(4), 175.3, 178.65 | To authorize the transportation in commerce of non-DOT specification cylinders for use in transporting helium. (Modes 1, 2, 4)
12672-N | RSPA-01-9372 | Safety-Kleen Corp., Columbia, SC | 49 CFR 173.28(b)(7)(iv)(B) | To authorize the transportation in commerce of 30 gallon open-head plastic drums without performing leakproofness test prior to reuse. (Modes 1, 2)
12674-N | RSPA-01-9373 | G&S Aviation, Donnelly, ID | 49 CFR 172.101(Col. 9A), 175.75(a)(1) & (a)(2) | To authorize the transportation in commerce of propane in 4BA/4BW type cylinders aboard small passenger-carrying aircraft to remote locations. (Mode 5)
12675-N | RSPA-01-9383 | Toyota Motor Manufacturing, North America, Inc., Erlanger, KY | 49 CFR 173.166(e)(4) | To authorize the transportation in commerce of non-specification reusable high-strength plastic or metal containers or other dedicated handling devices for use in transporting air bag modules and seat-belt pretensioners. (Mode 1)
12676-N | RSPA-01-9376 | Environmental Management, Inc., Guthrie, OK | 49 CFR 173.201, 173.202, 173.203, 173.302, 173.304, 173.309 | To authorize the transportation in commerce of non-DOT specification full open head, steel salvage cylinder for use in transporting damaged or leaking cylinders containing certain hazardous materials. (Modes 1, 3)
12677-N | RSPA-01-9375 | Austin Powder Co., Cleveland, OH | 49 CFR 173.202, 177.835(c)(3), 177.848(e)(2) | To authorize the transportation in commerce of certain Division 1.1D, 1.4B, 1.4S, and 1.5D explosives with certain Division 5.1 oxidizers, combustible liquids, and certain Class 8 corrosive liquids on a specially designed motor vehicle. (Mode 1)
12679-N | RSPA-01-9416 | Applied Companies, Santa Clarita, CA | 49 CFR 173.302(a), 178.65 | To authorize the transportation in commerce of non-DOT specification cylinders comparable to Specification 39 non-reusable for use in transporting oxygen. (Mode
12680-N | RSPA-01-9414 | GATX Rail Corporation, Chicago, IL | 49 CFR 180.509(1)(2) | To authorize alternative retest/qualification criteria for DOT Specification 111A100W6 in glacial acetic acid service. (Mode 2)
12686-N | RSPA-01-9481 | Carleton Technologies Inc., Orchard Park, NY | 49 CFR 173.302(a), 175.3 | To authorize the manufacture, marking, sale and use of a nonrefillable non-DOT specification cylinder conforming to DOT specification 39 cylinder for use in transporting Division 2.2 non-flammable compressed gas. (Modes 1, 2, 4)

[FR Doc. 01-10571 Filed 4-27-01; 8:45 am]

BILLING CODE 4910-60-M